DEPARTMENT OF HOUSING AND URBAN DEVELOPMENT

[Docket No. FR-4630-FA-31]

Housing Counseling Program Announcement of Funding Awards for Fiscal Year 2001

AGENCY: Office of the Assistant Secretary for Housing-Federal Housing Commissioner, HUD.

ACTION: Announcement of funding awards.

SUMMARY: In accordance with section 102(a)(4)(C) of the Department of Housing and Urban Development Reform Act of 1989, this announcement notifies the public of funding decisions made by the Department in a SuperNOFA competition for funding of HUD-approved counseling agencies to provide counseling services. This announcement contains the names and addresses of the agencies selected for funding and the amount. Additionally, this announcement outlines various noncompetitive housing counseling awards made by the Department.

FOR FURTHER INFORMATION CONTACT: Margaret Burns, Director, Program Support Division, Room 9166, Office of Single Family Housing, Department of Housing and Urban Development, 451 Seventh Street, SW., Washington, DC 20410, telephone (202) 708-2121. Hearing- or speech-impaired individuals may access this number by calling the Federal Information Relay Service on 1-800-877-8339 or (202) 708-9300. (With the exception of the “800” number, these are not toll free numbers.)

SUPPLEMENTARY INFORMATION: The Housing Counseling Program is authorized by section 106 of the Housing and Urban Development Act of 1968 (12 U.S.C. 1701x). HUD enters into agreement with qualified public or private nonprofit organizations to provide housing counseling services to low- and moderate-income individuals and families nationwide. The services include providing information, advice and assistance to renters, first-time homebuyers, homeowners, and senior citizens in areas such as pre-purchase counseling, financial management, property maintenance and other forms of housing assistance to improve the clients' housing conditions and meet the responsibilities of tenancy and homeownership.

The purpose of the grant is to assist HUD-approved housing counseling agencies in providing housing counseling services to HUD-related and other clients. HUD funding of approved housing counseling agencies is not guaranteed and when funds are awarded, a HUD grant does not cover all expenses incurred by an agency to deliver housing counseling services. Counseling agencies must actively seek additional funds from other sources such as city, county, state and federal agencies and from private entities to ensure that they have sufficient operating funds. The availability of housing counseling program grants depends upon whether the U.S. Congress appropriates funds for this purpose, the amount of those funds, and the outcome of the competitions for award.

The 2001 grantees announced in Appendix A of this Notice were selected for funding through a competition announced in a Federal Register notice published on February 26, 2001 (66 FR 11841) for the housing counseling program. Applications submitted for each competition were scored and selected for funding on the basis of selection criteria contained in the Notice. HUD awarded $17.548 million in housing counseling grants to 369 housing counseling agencies nationwide: 340 local agencies, 11 intermediaries, and 18 State housing finance agencies.

Additionally, HUD distributed $734,500 in noncompetitive housing counseling grants. Specifically, $584,500 was awarded to the American Association of Retired Persons (AARP) to provide housing counseling services related to the Home Equity Conversion Program (HECM). HUD also awarded 7 housing counseling grants, totaling $150,000, to provide Native Americans with quality homeownership education and counseling services, and to build the capacity of organizations in Indian Country to provide housing counseling. Noncompetitive awards are announced in Appendix B of this notice.

In accordance with section 102(a)(4)(C) of the Department of Housing and Urban Development Reform Act of 1989 (103 Stat. 1987, 42 U.S.C. 3545), the Department is publishing the names, addresses, and award amounts as provided in Appendix A.

The Catalog of Federal Domestic Assistance number for this program is 14.169.
Dated: December 27, 2001.
John C. Weicher,
Assistant Secretary for Housing-Federal Housing Commissioner.

Appendix A

Competitive/SuperNOFA Grants

Intermediary Organizations (11)

ACORN HOUSING CORPORATION, 846 N. Broad Street, Philadelphia, PA 19130, Amount Awarded: $1,032,192.00.

Catholic Charities USA, 1731 King Street, Suite 200, Alexandria, VA 22314, Amount Awarded: $971,280.00.

Citizens' Housing and Planning Association, 18 Tremont Street, Suite 401, Boston, MA 02108, Amount Awarded: $250,000.00.

Housing Opportunities, Inc., 133 Seventh Avenue, P.O. Box 9, McKeesport, PA 15132, Amount Awarded: $1,056,768.00.

National Council of La Raza, 1111 19th Street, NW, Suite 1000, Washington, DC 20036, Amount Awarded: $1,081,344.00.

National Foundation for Credit Counseling, 801 Roeder Road, Suite 900, Silver Spring, MD 20910, Amount Awarded: $1,155,072.00.

National Urban League, 120 Wall Street, New York, NY 10005, Amount Awarded: Amount Awarded: $1,155,072.00.

Neighborhood Reinvestment Corporation, 1325 G Street, NW, Suite 800, Washington, DC 20005-3100, Amount Awarded: $1,155,072.00.

The Congress of National Black Churches, Inc., 1225 Eye Street, NW, Suite 750, Washington, DC 20005-3914, Amount Awarded: $712,704.00.

The Housing Partnership Network, Inc., 160 State Street, 5th Floor, Boston, MA 02109, Amount Awarded: $1,130,496.00.

West Tennessee Legal Services, Inc., 210 West Main Street, P.O. Box 2066, Jackson, TN 38302-2066, Amount Awarded: $250,000.00.

State Housing Finance Agencies (18)

Atlanta (SHFA)

Georgia Housing & Finance Authority, 60 Executive Park South, Atlanta, GA 30329-2231, Amount Awarded: $64,672.00.

Kentucky Housing Corporation, 1231 Louisville Road, Frankfort, KY 40601, Amount Awarded: $49,420.00.

Mississippi Home Corporation, 735 Riverside Drive, P.O. Box 23369, Jackson, MS 39225-3369, Amount Awarded: $61,621.00.

South Carolina State Housing Finance & Development Auth., 919 Bluff Road, Columbia, SC 29201, Amount Awarded: $58,572.00.

Virgin Islands Housing Finance Authority, 210-3A Altona (Frostco Building, Ste 101, St. Thomas, VQ 00802, Amount Awarded: $20,000.00.

Denver (SHFA)

New Mexico Mortgage Finance Authority, 344 4th Street SW, Albuquerque, NM 87102, Amount Awarded: $115,000.00.

North Dakota Housing Finance Agency, P.O. Box 1535, Bismarck, ND 58502-1535, Amount Awarded: $50,000.00.

South Dakota Housing Development Authority, PO Box 1237, Pierre, SD 57501-1237, Amount Awarded: $65,000.00.

Philadelphia (SHFA)

Delaware State Housing Authority, Carvel State Building, 801 North French Street—10th Floor, Wilmington, DE 19801, Amount Awarded: $25,722.00.

Maine State Housing Authority, 353 Water Street, Augusta, ME 04330-4633, Amount Awarded: $43,967.00.

Maryland Department of Housing and Community Development, 100 Community Place, Crownsville, MD 21032, Amount Awarded: $24,063.00.

New Hampshire Housing Finance Authority, P.O. Box 5087, Manchester, NH 03108, Amount Awarded: $26,551.00.

Pennsylvania Housing Finance Agency, 2101 North Front St., Harrisburg, PA 17105, Amount Awarded: $41,479.00.

Rhode Island Housing & Mortgage Finance Corporation, 44 Washington St., Providence, RI 02903, Amount Awarded: $43,967.00.

State of Michigan, 401 S. Washington Square, P.O. Box 30044—MSHDA, Lansing, MI 48909, Amount Awarded: $32,357.00.

Virginia Housing Development Authority, 601 S. Belvidere St., Richmond, VA 23220, Amount Awarded: $29,039.00.

Santa Ana (SHFA)

Idaho Housing and Finance Association, P.O. BOX 7899, 565 Myrtle, Boise, ID 83707-1899, Amount Awarded: $94,191.00.

Washington State Housing Finance Commission, 1000 Second Avenue, Suite 2700, Seattle, WA 98104-1046, Amount Awarded: $130,094.00.

Local Organizations (340)

Atlanta (HOC)

Access Living of Metropolitan Chicago, 614 West Roosevelt Road, Chicago, IL 60607, Amount Awarded: $26,757.00.

Affordable Housing Coalition, 34 Wall Street, Suite 607, Asheville, NC 28801, Amount Awarded: $20,000.00.

Agency Metropolitan Program Services, 3210 W. Arthington Street, Chicago, IL 60624, Amount Awarded: $4,146.00.

Alabama Council on Human Relations, P.O. Drawer 1632, 319 West Glenn Avenue, Auburn, AL 36831-1632, Amount Awarded: $15,146.00.

Anderson Housing Authority, 528 West 11th Street, Anderson, IN 46016, Amount Awarded: $24,312.00.

Appalachian Housing & Redevelopment (Rome Housing Authority, 800 North Fifth Avenue, Rome, GA 30162, Amount Awarded: $19,423.00.

Birmingham Urban League, Inc., 1717 4th Avenue North, P.O. Box 11269, Birmingham, AL 35202-1269, Amount Awarded: $29,812.00.

C.C.C.S. of Middle Tennessee, Inc., P.O. Box 160328, Nashville, TN 37216-0328, Amount Awarded: $4,146.00.

Campbellsville Housing and Redevelopment Authority, P.O. Box 597, 400 Ingram Ave., Campbellsville, KY 42719, Amount Awarded: $10,870.00.

Carolina Regional Legal Services, Inc., P.O. Box 479, 279 West Evans Street, Florence, SC 29503-0479, Amount Awarded: $32,868.00.

CEFS Economic Opportunity Corporation, 1805 S. Banker Street, P.O. Box 928, Effingham, IL 62401, Amount Awarded: $16,979.00.

CEIBA Housing & Economic Development Corporation, Ave. Lauro Pinero #252, P.O. Box 203, Ceiba, PR 00735, Amount Awarded: $18,201.00.

Central Florida Community Development Corp., P.O. Box 15065, Daytona Beach, FL 32115, Amount Awarded: $12,090.00.

Chicago Commons, 3645 West Chicago Avenue, Chicago, IL 60651, Amount Awarded: $19,145.00.

Citizens for Affordable Housing, Inc., 1719 West End Avenue, Suite 607W, Nashville, TN 37203, Amount Awarded: $15,757.00.

City of Albany, Georgia, 230 S. Jackson St., Suite 315, Albany, GA 31701, Amount Awarded: $5,368.00.

City of Bloomington, P.O. Box 100, 401 North Morton, Bloomington, IN 47402, Amount Awarded: $24,925.00.

Cobb Housing, Inc., 700 Sandy Plains Road, Suite B-8, Marietta, GA 30066, Amount Awarded: $23,701.00.

Community Action & Community Development Agency, P.O. Box 1788, 207 Commerce Circle, SW, Decatur, AL 35602, Amount Awarded: $31,034.00.

Community Action Agency Huntsville/Madison & Limestone, 3516 Stringfield Road, P.O. Box 3975, Huntsville, AL 35810-0975, Amount Awarded: $27,979.00.

Community Action Agency of Northwest Al, 745 Thompson Street, Florence, AL 35630, Amount Awarded: $9,000.00.

Community Action of Greater Indianapolis, Inc., 2445 North Meridian Street, Indianapolis, IN 46208, Amount Awarded: $12,701.00.

Community and Economic Development Assoc. of Cook County, 208 South LaSalle, Suite 1900, Chicago, IL 60604-1001, Amount Awarded: $22,479.00.

Community Equity Investments, Inc. (CEII), 302 North Barcelona Street, Pensacola, FL 32501, Amount Awarded: $19,000.00.

Consumer Credit Counseling Service of Western NC, 50 South French Broad Ave., Suite 227, Ashville, NC 28801, Amount Awarded: $33,479.00.

Consumer Credit Counseling of NWI, Inc., 3637 Grant Street, Gary, IN 46408-1439, Amount Awarded: $20,500.00.

Consumer Credit Counseling Service of Family Counseling CEN, 220 Coral Sands Drive, Rockledge, FL 32955, Amount Awarded: $18,812.00.

Consumer Credit Counseling Service of FL. Gulf Coast, Inc., 5201 W. Kennedy Blvd., Suite 110, Tampa, FL 33609, Amount Awarded: $26,146.00.

Consumer Credit Counseling Service of Forsyth County, Inc., 8064 North Point Boulevard, Suite 204, Winston-Salem, NC 27106, Amount Awarded: $31,034.00.

Consumer Credit Counseling Service of South FL, 11645 Biscayne Blvd. #205, No. Miami, FL 33181, Amount Awarded: $18,812.00.

Consumer Credit Counseling Service of West Florida, 14 Palafox Place, Pensacola, FL 32501, Amount Awarded: $24,312.00.

Cumberland Community Action Program, Inc., P.O. Box 2009, 316 Green Street, Fayetteville, NC 28302, Amount Awarded: $30,000.00.

Davidson County Community Action, Inc., P.O. Box 389, 701 South Salisbury Street, Lexington, NC 27293-0389, Amount Awarded: $4,146.00.

Dekalb Fulton Housing Counseling Center, Inc., 4151 Memorial Drive, Suite 107-E, Decatur, GA 30032, Amount Awarded: $27,979.00.

Dupage Homeownership Center, Inc., 1333 North Main Street, Wheaton, IL 60187, Amount Awarded: $28,000.00.

Economic Opportunity for Savannah-Chatham County Area, Inc., 618 West Anderson Street, Savannah, GA 31401, Amount Awarded: $22,479.00.

Elizabeth City State University, 1704 Weeksville Road, Campus Box 761, Elizabeth City, NC 27909, Amount Awarded: $26,145.00.

Family and Children's Services of Chattanooga, Inc., Osborne Office Park, 6000 Building, Suite 2300, Chattanooga, TN 37411, Amount Awarded: $10,868.00.

Family Service Center, 1800 Main Street, Columbia, SC 29201, Amount Awarded: $33,479.00.

Fulton-Atlanta Community Action Authority, Inc., 1690 Chantilly Drive, Atlanta, GA 30324, Amount Awarded: $18,812.00.

Gainesville/Hall County Neighborhood Revitalization, P.O. Box 642, Gainesville, GA 30503, Amount Awarded: $18,812.00.

Gulf Coast Community Action Agency, Inc., 443 Security Square, P.O. Box 519, Gulfport, MS 39502-0519, Amount Awarded: $10,868.00.

Gwinnett Housing Resource Partnership, Inc., 3453 Holcomb Bridge Road, Suite 140, Norcross, GA 30092, Amount Awarded: $25,534.00.

Hammond Housing Authority, 7329 Columbia Circle—West, Hammond, IN 46324, Amount Awarded: $27,979.00.

Homes in Partnership, Inc., 235 E. Fifth Street, P. O. Box 761, Apopka, FL 32704-0761, Amount Awarded: $23,701.00.

Hoosier Uplands Economic Development Corporation, 521 West Main Street, Mitchell, IN 47446, Amount Awarded: $15,000.00.

Hope of Evansville, Inc., 608 Cherry Street, Evansville, IN 47713, Amount Awarded: $25,534.00.

Housing and Economic Leadership Partners, Inc., 485 Huntington Road, Suite 200, Athens, GA 30606, Amount Awarded: $21,868.00.

Housing and Neighborhood Dev. Serv of Central Florida, 990 North Bennett Avenue, Winter Park, FL 32789, Amount Awarded: $20,034.00.

Housing Authority of the Birmingham District, 1826 3rd Avenue South, Birmingham, AL 35233, Amount Awarded: $24,312.00.

Housing Authority of the City of Fort Wayne, P.O. Box 13489, 2013 South Anthony Blvd., Fort Wayne, IN 46869-3489, Amount Awarded: $27,979.00.

Housing Authority of the City of High Point, 500 East Russell Avenue, Post Office Box 1779, High Point, NC 27260, Amount Awarded: $24,923.00.

Housing Authority of the County of Lake, IL, 33928 North Route 45, Grayslake, IL 60030, Amount Awarded: $5,979.00.

Housing Development Corporation of St. Joseph County, 1200 County City Building, South Bend, IN 46601, Amount Awarded: $20,672.00.

Housing Education and Economic Development, 3405 Medgar Evers Blvd., Jackson, MS 39213, Amount Awarded: $10,868.00.

Johnston-Lee Community Action, Inc., P.O. Drawer 711, 1102 Massey Street, Smithfield, NC 27577, Amount Awarded: $20,000.00.

Knoxville Legal Aid Society, Inc., 502 S. Gay Street, Suite 404, Knoxville, TN 37902, Amount Awarded: $16,979.00.

Lake County, 2293 North Main Street, Crown Point, IN 46307, Amount Awarded: $18,201.00.

Latin American Association, 2665 Buford Highway, Atlanta, GA 30324, Amount Awarded: $22,479.00.

Latin United Community Housing Association, 3541 W. North Avenue, Chicago, IL 60647, Amount Awarded: $31,646.00.

Legal Assistance Foundation of Chicago, 111 West Jackson Blvd., Chicago, IL 60604, Amount Awarded: $27,368.00.

Legal Services of Upper East TN, Inc., 311 West Walnut Street, P.O. Drawer 360, Johnson City, TN 37605-0360, Amount Awarded: $24,312.00.

Lincoln Hills Development Corporation, 302 Main Street, P.O. Box 336, Tell City, IN 47586, Amount Awarded: $10,000.00.

Louisville Urban League, 1535 West Broadway, Louisville, KY 40203, Amount Awarded: $25,534.00.

Manatee Coalition for Affordable Housing, Inc., 319 6th Avenue West, Bradenton, FL 34205, Amount Awarded: $17,590.00.

Manatee Opportunity Council, Inc., 369 6th Avenue West, Bradenton, FL 34205, Amount Awarded: $13,312.00.

Memphis Area Legal Services, 109 N. Main, 2 Floor, Memphis, TN 38103-5013, Amount Awarded: $20,034.00.

Miami Beach Community Development Corporation, 1205 Drexel Avenue, Miami Beach, FL 33139, Amount Awarded: $18,812.00.

Mid-Florida Housing Partnership, Inc., P.O. Box 1345, 330 North Street, Daytona Beach, FL 32115, Amount Awarded: $18,812.00.

Mobile Housing Board, 151 South Claiborne Street, P. O. Box 1345, Mobile, AL 36633-1345, Amount Awarded: $31,646.00.

Muncie Homeownership and Development Center, 407 South Walnut Street, Muncie, IN 47305, Amount Awarded: $14,750.00.

Northeastern Community Development Corp., P.O. Box 367, Camden, NC 27921, Amount Awarded: $14,534.00.

Northwestern Regional Housing Authority, P.O. Box 2510, Hwy. 105 Ext., Boone, NC 28607, Amount Awarded: $31,646.00.

Ocala Housing Authority, 233 S.W. 3RD Street, Ocala, FL 34474, Amount Awarded: $25,000.00.

Palmetto Legal Services, 2109 Bull Street, P.O. Box 2267, Columbia, SC 29202, Amount Awarded: $5,368.00.

Purchase Area Housing Corporation, P.O. Box 588, Mayfield, KY 42066, Amount Awarded: $15,000.00.

Realtor-Community Housing Foundation, 2250 Regency Road, Lexington, KY 40503, Amount Awarded: $8,423.00.

Residential Resources, Inc., 602 Gallatin Road, Suite 102, Nashville, TN 37206, Amount Awarded: $18,201.00.

Rogers Park Community Council, 1530 W. Morse Avenue, Chicago, IL 60626, Amount Awarded: $14,534.00.

Sacred Heart Southern Missions Housing Corp., 6144 Highway 161 North, P.O. Box 365, Walls, MS 38680, Amount Awarded: $21,257.00.

Sandhills Community Action Program, Inc., P.O. Box 937, 103 Saunders Street, Carthage, NC 28327-0000, Amount Awarded: $20,646.00.

South Suburban Housing Center, 18220 Harwood Avenue, Suite 1, Homewood, IL 60430, Amount Awarded: $19,423.00.

Spanish Coalition for Housing, 4035 West North Avenue, Chicago, IL 60639, Amount Awarded: $31,646.00.

Tallahassee Urban League, Inc., 923 Old Bainbridge Road, Tallahassee, FL 32303, Amount Awarded: $7,812.00.

Tenant Services & Housing Counseling, Inc., 136 North Martin Luther King Blvd., Lexington, KY 40507, Amount Awarded: $30,000.00.

The Agricultural & Labor Program, Inc., P.O. Box 3126, Winter Haven, FL 33885, Amount Awarded: $3,535.00.

The Housing Authority of the City of Montgomery, 1020 Bell Street, Montgomery, AL 36104, Amount Awarded: $33,479.00.

Trident United Way, 6296 Rivers Avenue, P. O. Box 63305, North Charleston, SC 29419, Amount Awarded: $18,812.00.

Twin Rivers Opportunities, Inc., P.O. Box 1482, New Bern, NC 28563, Amount Awarded: $9,600.00.

Unified Government of Athens-Clarke County, 155 E. Washington St., P.O. Box 1868, Athens, GA 30603, Amount Awarded: $18,812.00.

Urban League of Greater Columbus, 802 First Avenue, Columbus, GA 31901, Amount Awarded: $27,979.00.

Wateree Community Action, Inc., Post Office Box 1838, 13 South Main Street, Sumter, SC 29150, Amount Awarded: $10,000.00.

West Perrine Community Development Corporation, 17623 Homestead Avenue, Miami, FL 33157, Amount Awarded: $19,423.00.

Willow Nonprofit Housing, Inc., P. O. Box 383, 200 A Commerce Street, Hayneville, AL 36040, Amount Awarded: $30,000.00.

Wilson Community Improvement Association, Inc., 504 E. Green Street, Wilson, NC 27893, Amount Awarded: $15,146.00.

Woodbine Community Organization, 222 Oriel Avenue, Nashville, TN 37210, Amount Awarded: $16,368.00.

Denver (HOC)

Adams County Housing Authority, 7190 Colorado Blvd., Commerce City, CO 80022, Amount Awarded: $29,692.00.

Anoka County Community Action Programs, Inc., 1201 89th Avenue NE, Suite 345, Anoka County, Blaine, MN 55343, Amount Awarded: $4,203.00.

Avenida Guadalupe Association, 1327 Guadalupe Street, San Antonio, TX 78207, Amount Awarded: $18,579.00.

Better Family Life, Inc., 724 North Union, Suite 301, St. Louis, MO 63108, Amount Awarded: $20,061.00.

Black Hills Legal Services, Inc., P.O. Box 1500, Rapid City, SD 57709-1500, Amount Awarded: $20,000.00.

Boulder County Housing Authority, P.O. Box 471, Boulder, CO 80306, Amount Awarded: $28,950.00.

Brothers Redevelopment, Inc., 2250 Eaton St., Garden Level, Suite B, Denver, CO 80214, Amount Awarded: $19,541.00.

Carver County Housing & Redevelopment Authority, 705 Walnut Street, Chaska, MN 55318, Amount Awarded: $7,687.00.

CCCS of Central Oklahoma, Inc., 3230 N. Rockwell Avenue, Bethany, OK 73008, Amount Awarded: $32,359.00.

CCCS of Greater Dallas, Inc., 8737 King George Dr., Suite 200, Dallas, TX 75235, Amount Awarded: $38,805.00.

CCCS of Greater San Antonio, 6851 Citizens Parkway, Suite 100, San Antonio, TX 78229, Amount Awarded: $7,687.00.

CCCS of Salina, 1201 West Walnut, Salina, KS 67401, Amount Awarded: $19,541.00.

Cedar City Housing Authority, 364 South 100 East, Cedar City, UT 84720, Amount Awarded: $3,172.00.

Center for A.I.D./CCCS of Greater Siouxland, 715 Douglas Street, Sioux City, IA 51101, Amount Awarded: $16,578.00.

Central City Housing Development Corp., 2020 Jackson Avenue, New Orleans, LA 70113, Amount Awarded: $7,687.00.

Chickasaw Nation, Division of Housing, P.O. Box 788, Ada, OK 74821-0788, Amount Awarded: $12,873.00.

City of Aurora—Home Ownership Assistance Program, 9801 E. Colfax Ave., Aurora, CO 80010, Amount Awarded: $19,205.00.

City of Des Moines (Services for Homeowner’s Program (Shop)), Department of Community Development, 602 East 1st Street, Des Moines, IA 50309-1881, Amount Awarded: $4,723.00.

City of Fort Worth, Housing Department, 1000 Throckmorton Street, Fort Worth, TX 76102, Amount Awarded: $30,655.00.

City of San Antonio, 115 Plaza de Armas, Suite 230, San Antonio, TX 78205, Amount Awarded: $30,433.00.

City Vision Ministries, Inc., 1321 N. 7th Street, Kansas City, KS 66101, Amount Awarded: $3,241.00.

Colorado Housing Enterprises/Colorado Rural Housing Dev Corp, 3621 West 73rd Avenue, Suite C, Westminster, CO 80030, Amount Awarded: $3,241.00.

Community Action Agency of Oklahoma City and OK/CN Counties, 1900 NW 10th Street, Oklahoma City, OK 73106, Amount Awarded: $18,466.00.

Community Aaction for Suburban Hennepin, 33 10th Avenue South, Suite 150, Hopkins, MN 55343, Amount Awarded: $27,691.00.

Community Action Project of Tulsa County, 717 S. Houston Ave, Suite 200, Tulsa, OK 74127, Amount Awarded: $22,283.00.

Community Action Services, 257 East Center Street, Provo, UT 84606, Amount Awarded: $26,500.00.

Community Action, Inc. of Rock and Walworth Counties, 2300 Kellog Avenue, Janesville, WI 53546, Amount Awarded: $12,000.00.

Community Development Authority of the City of Madison, 215 Martin Luther King Jr Blvd, Ste 318, P.O. Box 1785, Madison, WI 53701-1785, Amount Awarded: $31,618.00.

Community Development Corporation of Brownsville, 1150 E. Adams St., Second Floor, Brownsville, TX 78520, Amount Awarded: $33,841.00.

Community Development Support Association (CDSA), 2615 E. Randolph, Enid, OK 73701, Amount Awarded: $17,540.00.

Community Services League, 300 W. Maple, P.O. Box 4178, Independence, MO 64051, Amount Awarded: $25,690.00.

Crawford-Sebastian Community Development Council, Inc., 4831 Armour, P.O. Box 4069, Fort Smith, AR 72914, Amount Awarded: $16,876.00.

Crowley's Ridge Development Council, Inc., 249 S. Main, P.O. Box 1497, Jonesboro, AR 72401, Amount Awarded: $13,836.00.

Dallas Urban League, 4315 South Lancaster Road, Dallas, TX 75216, Amount Awarded: $9,688.00.

District 7 Human Resources Development Council 7 North 31st Street, P.O. Box 2016, Billings, MT 59103 Amount Awarded: $16,800.00.

E'TRAD (Education, Training, Research and Development) 608 E. Cherry Street, Suite 101, P.O. Box 10298, Columbia, MO 65201 Amount Awarded: $14,874.00.

East Arkansas Legal Services, 2126 E. Broadway, P.O. Box 1149, West Memphis, AR 72303, Amount Awarded: $17,540.00.

Family Housing Advisory Services, Inc., 2416 Lake Street, Omaha, NE 68111, Amount Awarded: $38,805.00.

Family Life Center/Utah State University, 493 North 700 East, Logan, UT 84321, Amount Awarded: $11,391.00.

Family Management Credit Counselors, Inc. (FMCCI), 1409 W. 4th Street, Waterloo, IA 50702, Amount Awarded: $10,000.00.

Family Service Agency, 4504 Burrow Drive, P.O. Box 16615, North Little Rock, AR 72231-6615, Amount Awarded: $26,951.00.

Greater Kansas City Housing Information Center, 3810 Paseo, Kansas City, MO 65109-2721, Amount Awarded: $38,583.00.

Gulf Coast Community Services Association, 5000 Gulf Freeway Building #1, Houston, TX 77023, Amount Awarded: $3,760.00.

Hawkeye Area Community Action Program, Inc., 1515 Hawkeye Drive, P.O. Box 490, Hiawatha, IA 52233-0490, Amount Awarded: $23,987.00.

High Plains Community Development Corp. Inc., 130 East Second Street, Chadron, NE 69337, Amount Awarded: $27,173.00.

Housing and Credit Counseling, Inc., 1195 SW Buchanan, Suite 101, Topeka, KS 66604-1183, Amount Awarded: $24,209.00.

Housing Authority of the City of Lawton, OK, 609 Southwest F Avenue, Lawton, OK 73501, Amount Awarded: $3,241.00.

Housing Authority of the City of Muskogee 220 North 40th Street, Muskogee, OK 74401, Amount Awarded: $30,655.00.

Housing Authority of the City of Stillwater, 807 S. Lowry, Stillwater, OK 74074, Amount Awarded: $2,500.00.

Housing Options Provided for the Elderly, 4265 Shaw Avenue, St. Louis, MO 63110, Amount Awarded: $10,000.00.

Housing Partners of Tulsa, Inc., P.O. Box 6369, Tulsa, OK 74148, Amount Awarded: $32,137.00.

In Affordable Housing, Inc., 1200 John Barrow Rd., Ste 109, Little Rock, AR 72205, Amount Awarded: $13,836.00.

Interfaith of Natrona County, Inc., 1514 East #12th Street, #303, Casper, WY 82601, Amount Awarded: $10,000.00.

Justine Petersen Housing & Reinvestment Corp., 5031 Northrup, St. Louis, MO 63110, Amount Awarded: $24,950.00.

Lafayette Consolidated Government, P.O. Box 4017-C, Lafayette, LA 70502-4017, Amount Awarded: $15,837.00

Legal Aid of Central Texas, 2201 Post Road, Suite 104, Austin, TX 78704, Amount Awarded: $37,102.00.

Legal Aid Society of Albuquerque, Inc., 121 Tijeras NE, Suite 3100, Albuquerque, NM 87125-5486, Amount Awarded: $27,173.00.

Legal Services of Eastern Missouri, Inc., 4232 Forest Park Avenue, St. Louis, MO 63108, Amount Awarded: $17,540.00.

Lincoln Action Program, Inc., 210 O Street, Lincoln, NE 68508, Amount Awarded: $29,174.00.

Marshall Housing Authority, 1401 Poplar Street, P.O. Box 609, Marshall, TX 75671, Amount Awarded: $3,463.00.

Neighbor to Neighbor, Inc., 424 Pine Street, Suite 203, Fort Collins, CO 80524, Amount Awarded: $22,505.00.

Norman Housing Authority, 700 N. Berry Rd., Norman, OK 73069, Amount Awarded: $20,282.00.

North Louisiana Legal Assistance Corporation, 200 Washington Street, P.O. Box 3325, Monroe, LA 71201, Amount Awarded: $26,210.00.

Northeast Denver Housing Center, 1735 Gaylord St., Denver, CO 80206, Amount Awarded: $5,242.00.

Northeast Kansas Community Action Program (NEK-CAP, Inc.), Community Services Department, P.O. Box 380, Hiawatha, KS 66434, Amount Awarded: $9,168.00.

Northwest Montana Human Resources, Inc., 214 Main, P.O. Box 8300, Kalispell, MT 59904-1300, Amount Awarded: $3,241.00.

Oglala Sioux Tribe Partnership for Housing, Inc., P.O. Box 3001, Pine Ridge, SD 57770, Amount Awarded: $11,613.00.

Our Casas Resident Council, Inc., 3006 Guadalupe Street, San Antonio, TX 78207, Amount Awarded: $3,463.00.

Parish of Jefferson, Community Action Programs (JEFFCAP), 1221 Elmwood Park Blvd., Suite 402, Jefferson, LA 70123, Amount Awarded: $19,541.00.

Senior Housing, Inc., 2021 East Hennipin, Minneapolis, MN 55413, Amount Awarded: $24,950.00.

Southeastern North Dakota Community Action Agency, 3233 South University Drive, P.O. Box 2683, Fargo, ND 58104, Amount Awarded: $14,000.00.

Southern Minnesota Regional Legal Service, 700 Minnesota Building, 46 East Fourth Street, St. Paul, MN 55101, Amount Awarded: $19,319.00.

Southwest Community Resources, 295 Girard Street, Durango, CO 81301, Amount Awarded: $5,686.00.

St. Martin, Iberia, Lafayette Community Action Agency, Inc., 501 St. John Street, P.O. Box 3343, Lafayette, LA 70502, Amount Awarded: $20,802.00.

St. Mary Community Action Committee Assoc., Inc., P.O. Box 271, Franklin, LA 70538, Amount Awarded: $5,983.00.

St. Paul Housing Information Office, 25 West Fourth Street, Room 150, St. Paul, MN 55102, Amount Awarded: $21,764.00.

St. Paul Urban League, 401 Selby Avenue, St. Paul, MN 55102, Amount Awarded: $26,431.00.

Summit Housing Authority, 106 N. Ridge Street, P.O. Box 188, Breckenridge, CO 80424, Amount Awarded: $3,241.00.

Tarrant County Housing Partnership, Inc., 603 West Magnolia Ave, Suite 207, Ft. Worth, TX 76104, Amount Awarded: $3,241.00.

Universal Housing Development Corp., P.O. Box 846, Russellville, AR 72811, Amount Awarded: $24,728.00.

Urban League of Wichita, Inc., 1802 East 13th Street N., Wichita, KS 67214, Amount Awarded: $4,501.00.

Walker's Point Development Corp, 914 S. 5th Street, Milwaukee, WI 53204, Amount Awarded: $8,947.00.

West Central Missouri Community Action Agency, 106 W. 4th, P.O. Box 125, Appleton City, MO 64724, Amount Awarded: $35,620.00.

Women's Opportunity & Resource Development, 127 N. Higgins, Missoula, MT 59802, Amount Awarded: $6,426.00.

Philadelphia (HOC)

Affordable Homes of Millville Ecumenical (AHOME), Inc., P.O. Box 241, Millville, NJ 08332, Amount Awarded: $17,340.00.

Albany County Rural Housing Alliance, Inc., P.O. Box 407, 24 Martin Road, Voorheesville, NY 12186, Amount Awarded: $18,376.00.

Anne Arundel Co. Economic Opportunity Committee, Inc., 251 West Street, Annapolis, Anne Arundel, MD 21401, Amount Awarded: $10,779.00.

Arundel Community Development Services, Inc., 2660 Riva Road, Suite 210, Annapolis, MD 21401, Amount Awarded: $19,800.00.

Asian Americans for Equality, Inc., 111 Division Street, New York, NY 10002, Amount Awarded: $18,721.00.

Bayfront Nato, Inc., 312 Chestnut Street, Erie, PA 16507, Amount Awarded: $3,078.00.

Belmont Shelter Corporation, 1195 Main Street, Buffalo, NY 14209-2196, Amount Awarded: $19,425.00.

Berks Community Action Program/Budget Counceling Center, Post Office Box 22, Berks County, Reading, PA 19603-0022, Amount Awarded: $19,425.00.

Better Housing League of Greater Cinti, 2400 Reading Road, Cincinnati, OH 45202, Amount Awarded: $18,376.00.

Better Neighborhoods Incorporated, 986 Albany Street, Schenectady, NY 12307, Amount Awarded: $20,500.00.

Bishop Sheen Ecumenical Housing Foundation, Inc., 935 East Avenue, Suite 300, Rochester, NY 14607, Amount Awarded: $15,268.00.

Burlington County Community Action Program, 718 Route 130 South, Burlington, NJ 08016, Amount Awarded: $14,578.00.

Catholic Charities, Diocese of Metuchen, 540-550 Route 22 East, Brigewater, Somerset, NJ 08807, Amount Awarded: $14,923.00.

Center City Neighborhood Development Corporation, 1824 Main Street, Niagara Falls, NY 14305, Amount Awarded: $20,500.00.

Chautauqua Opportunities, Inc., 17 West Courtney Street, Dunkirk, NY 14048, Amount Awarded: $20,500.00.

Chester Community Improvement Project, 412 Avenue of the States, Chester, PA 19016, Amount Awarded: $20,150.00.

Citizen Action of New Jersey, 400 Main Street, Hackensack, NJ 07601, Amount Awarded: $19,425.00.

City of Frederick, 100 South Market Street, Frederick County, Frederick, MD 21701, Amount Awarded: $8,000.00.

Coastal Enterprises, Inc., 36 Water Street, P.O. Box 268, Wiscasset, ME 04578, Amount Awarded: $20,150.00.

Commission on Economic Opportunity, 165 Amber Lane, Wilkes-Barre, PA 18703, Amount Awarded: $19,067.00.

Communities Organized to Improve Life: CEDC, 11 South Carrollton Avenue, Baltimore, MD 21223, Amount Awarded: $4,909.00.

Community Access Unlimited, Inc., 80 West Grand Street, Elizabeth, NJ 07202, Amount Awarded: $8,016.00.

Community Action Commission of Belmont CTY, 410 Fox-Shannon Place, St. Clairsville, OH 43950, Amount Awarded: $4,563.00.

Community Action Commission of Fayette County, Inc., 324 East Court Street, Fayette County, OH 43160, Amount Awarded: $12,851.00.

Community Action Committee of the Lehigh Valley, Inc., 651 East Broad Street, Bethlehem, PA 18018, Amount Awarded: $16,649.00.

Community Action Program Madison County, 3 East Main Street, P.O. Box 249, Morrisville, NY 13408, Amount Awarded: $18,721.00.

Community Action Southwest, 315 East Hallam Avenue, Washington, PA 15301, Amount Awarded: $17,000.00.

Community Assistance Network, Inc., 7701 Dunmanway, Baltimore, MD 21222, Amount Awarded: $18,721.00.

Community Development Corporation of Long Island, 2100 Middle Country Road, Centereach, NY 11720, Amount Awarded: $19,067.00.

Community Housing, Inc., 613 Washington Street, Wilmington, DE 19801, Amount Awarded: $14,578.00.

Consumer Credit Counseling Service of Greater Washington, 15847 Crabbs Branch Way, Rockville, MD 20855, Amount Awarded: $12,506.00.

Cortland Housing Assistance Council, Inc., 159 Main Street, Cortland, NY 13045, Amount Awarded: $12,000.00.

County Commissioners of Carroll County, 10 Distillery Drive, Suite 101, Westminster, MD 21157-5194, Amount Awarded: $18,721.00.

Credit Counseling Centers, Inc., 111 Westcott Road, South Portland, ME 04106, Amount Awarded: $19,800.00.

Cypress Hills Local Development Corp., 625 Jamaica Avenue, Kings County, Brooklyn, NY 11208, Amount Awarded: $19,425.00.

Detroit Non-Profit Housing Corporation, 1200 Sixth Street Suite 404, Detroit, MI 48226, Amount Awarded: $15,268.00.

Druid Heights Community Development Corporation, 1821 Mc Culloh Street, Baltimore, MD 21217, Amount Awarded: $10,434.00.

Fair Housing Contact Service, 333 South Main Street—Suite 300, Akron, OH 44308, Amount Awarded: $6,290.00.

Family Service—Upper Ohio Valley, 51 Eleventh Street, Wheeling, WV 26003, Amount Awarded: $12,160.00.

Fayette County Community Action Agency, Inc., 137 N. Beeson Avenue, Uniontown, PA 15401, Amount Awarded: $15,000.00.

First State Community Action Agency, Inc., 308 North Railroad Avenue, P.O. Box 877, Georgetown, DE 19947, Amount Awarded: $15,268.00.

Garfield Jubilee Association, Inc., 5138 Penn Avenue, Pittsburgh, PA 15224, Amount Awarded: $15,000.00.

Greater Boston Leagal Services, Inc., 197 Friend Street, Boston, MA 02114, Amount Awarded: $20,150.00.

Greater Erie Community Action Committee, 18 West 9th Street, Erie, PA 16501, Amount Awarded: $2,500.00.

Hampton Redevelopment & Housing Authority, P.O. Box 280, 22 Lincoln Street, Hampton, VA 23669, Amount Awarded: $8,016.00.

Harford County, 15 South Main Street—Suite 106, Harford County, Bel Air, MD 21014, Amount Awarded: $15,959.00.

Harlem Park Revitalization Corporation, 1017 Edmondson Avenue, Baltimore, MD 21223, Amount Awarded: $12,160.00.

Hispanic American Organization, 136 S. 4th Street, Allentown, PA 18102, Amount Awarded: $14,232.00.

Home Partnership, Inc., 1221 B Brass Mill Road, Belcamp, MD 21017, Amount Awarded: $11,470.00.

Housing Association of Delaware Valley, 1500 Walnut Street, Suite 601, Philadelphia, PA 19102, Amount Awarded: $10,434.00.

Housing Authority of the County of Butler, 114 Woody Drive, Butler, PA 16001, Amount Awarded: $16,649.00.

Housing Coalition of Central Jersey, 78 New Street, New Brunswick, NJ 08901, Amount Awarded: $14,923.00.

Housing Consortium for Disabled Individuals, 4040 Market Street, Philadelphia, PA 19104, Amount Awarded: $16,995.00.

Housing Council Of York, Inc., 116 North George Street, York County, York, PA 17401, Amount Awarded: $19,425.00.

Housing Counseling Services, Inc., 2430 Ontario Road N.W., Washington, DC 20009, Amount Awarded: $14,232.00.

Housing Initiative Partnership, Inc., 4310 Gallatin Street, 3rd Floor, Hyattsville, MD 20781, Amount Awarded: $17,685.00.

Housing Opportunity Made Equal, 2201 West Broad St—Suite 200, Richmond, VA 23220, Amount Awarded: $20,500.00.

Housing Partnership for Morris County, Inc., 22 East Blackwell Street, Dover, NJ 07801, Amount Awarded: $20,150.00.

Isles Inc., 10 Wood Street, Trenton, NJ 08618, Amount Awarded: $16,304.00.

Jamaica Housing Improvement, Inc 161-10 Jamaica Avenue, Suite 601, Jamaica, NY 11432, Amount Awarded: $19,067.00.

Jersey Counseling and Housing Development, Inc., 1840 South Broadway, Camden City, NJ 08104, Amount Awarded: $8,362.00.

Kanawha Institute for Social Research and Action, 124 Marshall Avenue, Dunbar, WV 25064, Amount Awarded: $20,500.00.

Long Island Housing Services, Inc., 3900 Veterans Memorial Highway-Suite 251, Bohemia, NY 11716, Amount Awarded: $20,500.00.

Lutheran Housing Corporation, 13944 Euclid Avenue, Suite 208, East Cleveland, OH 44112, Amount Awarded: $10,779.00.

Lynchburg Community Action Group, Inc, 926 Commerce Street, Lynchburg, VA 24504, Amount Awarded: $16,649.00.

Margert Community Corporation, 1931 Mott Avenue, Room 412, Far Rockaway, NY 11691, Amount Awarded: $19,067.00.

Marshall Heights Community Dev., Org, 3939 Benning Road NE, Washington, DC 20019, Amount Awarded: $19,067.00.

Maryland Rural Development Corporation, P.O. Box 4848, Annapolis, MD 21403, Amount Awarded: $15,613.00.

Metro Interfaith Services, Inc, 21 New Street, Binghamton, NY 13903, Amount Awarded: $10,000.00.

Michigan Housing Counselors, Inc., 237 S.B. Gratiot Avenue, Mt. Clemens, MI 48043, Amount Awarded: $15,959.00.

Middle East Community Development Corp., 730 North Collington Avenue, Baltimore, MD 21205, Amount Awarded: $13,196.00.

Monmouth County Board of Chosen Freeholders, P.O. Box 1255, Freehold, NJ 07728, Amount Awarded: $14,578.00.

NCALL Research, Inc., 20 East Division Street, P.O. Box 1092, Dover, DE 19903-1092, Amount Awarded: $19,425.00.

Near Northeast Community Improvement Corporation, 1326 Florida Avenue—N.E., Washington, DC 20002, Amount Awarded: $17,685.00 .

Neighborhood House, Inc., 1218 B Street, New Castle County, Wilmington, DE 19801, Amount Awarded: $14,578.00.

Neighborhood Housing Services of New Britain, Inc, 223 Broad Street, New Britian, CT 06053, Amount Awarded: $17,340.00.

Neighborhood Housing Services of NYC, 121 W. 27th Street, 4th Floor, New York, NY 10001, Amount Awarded: $19,067.00.

Neighbors Helping Neighbors, Inc., 443 39th Street, Brooklyn, NY 11232, Amount Awarded: $19,425.00.

Northfield Community LDC of SI, Inc., 160 Heberton Avenue, Staten Island, NY 10302, Amount Awarded: $19,425.00.

Northwest Counseling Service, Inc., 5001 North Broad Street, Philadelphia, PA 19141, Amount Awarded: $17,685.00.

Oakland County Michigan, 1200 North Telegraph Road Oakland County, Pontiac, MI 48341-9901, Amount Awarded: $13,542.00.

Office of Human Affairs, 6060 Jefferson Avenue, Suite 12C, P.O. Box 37, Newport News, VA 23607, Amount Awarded: $11,470.00.

Open Housing Center, Inc., 45 John Street, Suite #308, New York, NY 10038, Amount Awarded: $17,340.00.

Opportunities for Chenango, Inc., P.O. Box 470, 44 West Main Street, Norwich, NY 13815-0470, Amount Awarded: $11,280.00.

People Incorporated of Southwest Virginia, 1173 West Main Street, Abington, VA 24210,Amount Awarded: $10,000.00.

Philadelphia Council for Community Advancement, 100 North 17th Street, Suite 700, Philadelphia, PA 19107, Amount Awarded: $19,425.00.

Phoenix Non-Profit Housing Corp., 1640 Porter Street, Detroit, MI 48216, Amount Awarded: $5,599.00.

Piedmont Housing Alliance, 515 Park Street, Charlottesville, VA 22902, Amount Awarded: $14,578.00.

Plymouth Redevelopment Authority, 11 Lincoln Street, Plymouth, MA 02360, Amount Awarded: $20,500.00.

Prince William County, 8033 Ashton Avenue, Suite 105, Manassas, VA 20109, Amount Awarded: $18,721.00.

Putnam County Housing Corporation, 11 Seminary Hill Road, Carmel, NY 10512, Amount Awarded: $20,500.00.

Quincy Community Action Programs, Inc., 1509 Hancock Street, Norfolk County, Quincy, MA 02169, Amount Awarded: $10,500.00.

Rockland Housing Action Coalition, Inc, 747 Chestnut Street, Chestnut Ridge, NY 10977, Amount Awarded: $19,425.00.

Rural Sullivan County Housing Opp., Inc, P.O. Box 1497, Monticello, NY 12701, Amount Awarded: $15,000.00.

Rural Ulster Preservation Company, Inc., 289 Fair Street, Ulster County, Kingston, NY 12401, Amount Awarded: $18,000.00.

Schuylkill Community Action, 225 North Centre Street, Pottsville, PA 17901, Amount Awarded: $18,000.00.

Senior Citizens United Community Services of CC, Inc, 146 Black Horse Pike, Mt. Ephraim, NJ 08059, Amount Awarded: $15,268.00.

Shore Up!, Inc., 520 Snow Hill Road, P.O. Box 430, Salisbury, MD 21803, Amount Awarded: $15,613.00.

Skyline Cap, Inc, P.O. Box 588, Madison, VA 22727, Amount Awarded: $8,362.00.

Somerset County Coalition on Affordable Housing, One West Main Street, 2nd Floor, Somerville, NJ 08876, Amount Awarded: $18,376.00.

Southern Maryland Tri-County Community Action Committee, Inc, P.O. Box 280, Hughesville, MD 20637, Amount Awarded: $11,124.00.

Southside Community Development & Housing Corp., 1624 Hull Street, Richmond, VA 23224, Amount Awarded: $10,088.00.

St. Ambrose Housing Aid Center, 321 East 25th Street, Baltimore, MD 21218, Amount Awarded: $20,500.00.

St. James Community Development Corporation, 260 Broadway, Suite 300, Newark, NJ 07104, Amount Awarded: $10,088.00.

Tabor Community Services Inc, 439 East King St., Lancaster, PA 17602, Amount Awarded: $19,425.00.

Telamon Corporation, 4913 Fithzhugh Avenue, Suite 202, Richmond, VA 23230, Amount Awarded: $13,887.00.

The Housing Council in the Monroe County Area., 183 East Main Street, Suite 1100, Rochester, NY 14604, Amount Awarded: $20,150.00.

The Southeastern Tidewater Opportunity Project, Inc., 2551 Almeda Avenue, Norfolk, VA 23513, Amount Awarded: $8,016.00.

The Trehab Center, 10 Public Avenue, P.O. Box 366, Montrose, PA 18801, Amount Awarded: $19,425.00.

Total Action Against Poverty (TAP), 145 Campbell Avenue, S.W., Roanoke, VA 24001-2868, Amount Awarded: $17,340.00.

Trcil Services, Inc., 900 Rebecca Avenue, Wilkinsburg, PA 15221, Amount Awarded: $8,362.00.

Tri-Churches Housing, Inc., 815 Scott Street, Baltimore, MD 21230, Amount Awarded: $15,000.00.

Tri-County Community Action Agency, Inc., 110 Cohansey Street, Bridgeton, NJ 08302, Amount Awarded: $8,707.00.

United Neighborhood Centers of Lackawanna County, Inc., 410 Olive Street, Scranton, PA 18509, Amount Awarded: $14,923.00.

Universal Credit Consulting Services, Inc., 531 Market Street, Zanesville, OH 43701-3610, Amount Awarded: $8,016.00.

University Legal Services, 300 I Street, NE, Suite 202, Washington, DC 20002, Amount Awarded: $18,376.00.

Urban League of Rhode Island, Inc., 246 Prairie Avenue, Providence County, Providence, RI 02905, Amount Awarded: $19,425.00.

Urban League of Union County, Inc., 272 North Broad St., Elizabeth, NJ 07207, Amount Awarded: $12,506.00.

Washington County Community Action Council, Inc., 101 Summit Avenue, Hagerstown, MD 21740, Amount Awarded: $15,954.00.

Washtenaw Homebuyers Program, 2301 Platt Road, Ann Arbor, MI 48014, Amount Awarded: $3,873.00.

Westchester Residential Opportunities, Inc, 470 Mamaroneck Avenue, Suite 410, White Plains, NY 10605, Amount Awarded: $20,500.00.

YWCA of New Castle County, 233 King Street, Wilmington, DE 19801, Amount Awarded: $19,425.00.

Santa Ana (HOC)

Administration of Resources and Choices, 209 South Tucson Blvd., P.O. Box 86802, Tucson, AZ 85754, Amount Awarded: $22,655.00.

CCCS of Alaska, 208 East 4th Avenue, Anchorage, AK 99501, Amount Awarded: $46,422.00.

CCCS of Central Valley Inc., 4969 E. McKinley, Suite #107, Fresno, CA 93727, Amount Awarded: $41,260.00.

CCCS of East Bay, 333 Hegenberger Rd, Suite 710, Oakland, CA 94621, Amount Awarded: $62,965.00.

CCCS of Los Angeles, 500 Citadel Drive, Suite 300, Los Angeles, CA 90040, Amount Awarded: $18,004.00.

CCCS of Mid Counties, 2575 Grand Canal Blvd., Suite 100, Stockton, CA 95207, Amount Awarded: $19,043.00.

CCCS of Orange County, P.O. Box 11330, 1920 Old Tustin Avenue, Santa Ana, CA 92711-1330, Amount Awarded: $55,725.00.

CCCS of San Diego and Imperial Counties, 1550 Hotel Circle N. Suite 110, San Diego, CA 92108-2907, Amount Awarded: $20,593.00.

CCCS of South Nevada, 3650 S. Decatur, Suite 30, Las Vegas, NV 89103, Amount Awarded: $42,810.00.

Central Oregon Comm Action Agency Network, 2303 SW First Street, Redmond, OR 97756, Amount Awarded: $35,000.00.

Chicanos Por La Causa, Inc., 1112 East Buckeye Road, Phoenix, AZ 85034, Amount Awarded: $43,849.00.

City of Anaheim Housing Authority, 201 S. Anaheim Blvd., Ste. 203, Anaheim, CA 92805, Amount Awarded: $13,864.00.

City of Vacaville, Office of Housing and Redevelopment, 40 Eldridge Avenue, Suite 2, Vacaville, CA 95688, Amount Awarded: $39,198.00.

Community Action Agency, 124 New 6th Street, Lewiston, ID 83501, Amount Awarded: $19,554.00.

Community Housing & Credit Counseling Center (CHCCC), 1001 Willow St., Chico, CA 95928, Amount Awarded: $35,058.00.

Community Housing & Shelter Services, PO Box 881, Modesto, CA 95353, Amount Awarded: $33,507.00.

Community Housing Resource Center, 5212 NE St. John Road, Suite B, Vancouver, WA 98668-6248, Amount Awarded: $58,826.00.

County of Santa Cruz Housing Authority, 2160 41st Avenue, Capitola, CA 95010-2060, Amount Awarded: $16,965.00.

Eden Council for Hope and Opportunity, 770 A Street, Hayward, CA 94541, Amount Awarded: $25,500.00.

Fair Housing Council of Orange County, 201 So Broadway, Santa Ana, CA 92701, Amount Awarded: $44,872.00.

Family Housing Resources, Inc., 3777 East Broadway, Suite 100, Tucson, AZ 85716, Amount Awarded: $25,000.00.

Fremont Public Association, P.O. Box 31151, Seattle, WA 98103, Amount Awarded: $50,000.00.

Inland Fair Housing and Mediation Board, 1005 Begonia Avenue, Ontario, CA 91762, Amount Awarded: $61,415.00.

Legal Aid Society of Hawaii, 924 Bethel Street, Honolulu, HI 96813, Amount Awarded: $11,802.00.

Neighborhood House Association, 5660 Copley Drive, San Diego, CA 92111, Amount Awarded: $47,973.00.

Open Door Counseling Social Service, 34420 SW Tualatin Valley Highway, Hillsboro, OR 97123, Amount Awarded: $44,872.00.

Pacific Community Services, Inc., 329 Railroad Avenue, Pittsburg, CA 94566, Amount Awarded: $67,105.00.

Pierce County Department of Community Services, 8811 South Tacoma, Lakewood, WA 98499, Amount Awarded: $30,000.00.

Project Sentinel, 430 Sherman Avenue, Ste 308, Palo Alto, CA 94306, Amount Awarded: $41,771.00.

Sacramento Neighborhood Housing Services, Inc., 3453 5th Avenue, Sacramento, CA 95817, Amount Awarded: $43,849.00.

San Diego Home Loan Counseling Service, 3180 University Avenue, Ste 430, San Diego, CA 92104, Amount Awarded: $44,872.00.

Southeastern Arizona Government Organization, 118 Arizona Street, Bisbee, AZ 85603, Amount Awarded: $5,601.00.

Spokane Neighborhood Action Program, 2116 East First Avenue, Spokane, WA 99202, Amount Awarded: $64,004.00.

Springboard, Non-Profit Consumer Credit Mgmt., 6370 Magnolia Avenue, Suite 200, Riverside, CA 92506, Amount Awarded: $3,539.00.

Umpqua Community Action Network, 2448 West Harvard, Roseburg, OR 97470, Amount Awarded: $20,000.00.

Washoe County Department of Senior Services, 1155 East Ninth Street, Reno, NV 89512, Amount Awarded: $18,515.00.

Washoe Legal Services, 650 Tahoe Street, Reno, NV 89509, Amount Awarded: $34,546.00.

Women's Development Center, 953 E. Sahara Suite #201, Las Vegas, NV 89104, Amount Awarded: $34,019.00.

Appendix B

NonCompetitive Awards

Home Equity Conversion (HECM) Counseling

American Association of Retired Persons (AARP), 601 E Street, NW, Washington, DC 20049, Amount Awarded: $584,500.

Native American Grants

Navajo Partnership for Housing, Inc., P.O. Box 1370, St. Michaels, AZ 86511, Amount Awarded: $20,800.

Native American Housing Services, Inc., 132 E. Broadway, Suite 1, Anadarko, OK 73005, Amount Awarded: $20,800.

Nez Perce Tribal Housing Authority, P.O. Box 188, Lapwai, ID 83540, Amount Awarded: $20,800.

Sault Tribe Housing Authority, Homeownership Opportunities Program, 2218 Shunk Road, Sault Ste. Marie, MI 49783, Amount Awarded: $20,800.

Sicangu Enterprise Center, P.O. Box 205, Sicangu Lakota Nation, Mission, SD 57555, Amount Awarded: $20,800.

Neighborhood Reinvestment Corporation, 1325 G Street, NW, Suite 800, Washington, DC 20005, Amount Awarded: $25,000.

[FR Doc. 02-1029 Filed 1-15-02; 8:45 am]

BILLING CODE 4210-27-P